DEPARTMENT OF AGRICULTURE

Agricultural Marketing Service

7 CFR Parts 1000, 1001, 1005, 1006, 1007, 1030, 1032, 1033, 1124, 1126, and 1131

[Docket No. AO-14-A74, et al.; DA-06-01]

Milk in the Northeast and Other Marketing Areas; Notice of Intent To Reconvene National Hearing on Proposed Amendments to Tentative Marketing Agreements and Orders

7 CFR part | Marketing area | AO Nos.
1001 | Northeast | AO-14-A74
1005 | Appalachian | AO-388-A18
1006 | Florida | AO-356-A39
1007 | Southeast | AO-366-A47
1030 | Upper Midwest | AO-361-A40
1032 | Central | AO-313-A49
1033 | Mideast | AO-166-A73
1124 | Pacific Northwest | AO-368-A35
1126 | Southwest | AO-231-A68
1131 | Arizona Las-Vegas | AO-271-A40

AGENCY: Agricultural Marketing Service, USDA.

ACTION: Proposed rule; notice of intent to reconvene national hearing.

SUMMARY: To assure that any changes to manufacturing allowance factors used in Federal order Class III and Class IV product price formulas are appropriate and reflective of manufacturing costs, the Department of Agriculture (Department) will be reconvening the national hearing held January 24-27, 2006, in Alexandria, Virginia. Additional proposals addressing the Federal order Class III and Class IV price formulas are also requested for further consideration in the reconvened hearing.

DATES: Additional proposals are due on or before September 30, 2006.

ADDRESSES: Additional proposals should be sent to the following address: Attn: Gino Tosi, USDA/AMS/Dairy Programs, Order Formulation and Enforcement Branch, Stop 0231-Room 2971, 1400 Independence Avenue, SW., Washington, DC 20250-0231, (202) 720-7183.

FOR FURTHER INFORMATION CONTACT: Gino Tosi, Associate Deputy Administrator, USDA/AMS/Dairy Programs, Order Formulation and Enforcement Branch, Stop 0231-Room 2971, 1400 Independence Avenue, SW., Washington, DC 20250-0231, (202) 720-7183, e-mail address: gino.tosi@usda.gov.

SUPPLEMENTARY INFORMATION: On January 24-27, 2006, the Department conducted a public hearing to consider changes to the manufacturing (make) allowances used to establish Class III and Class IV prices in all Federal milk marketing orders. During that hearing, evidence was presented to update plant manufacturing costs using the 2005 California Department of Food and Agriculture (CDFA) and the Rural Business Cooperative Service (RBCS) manufacturing costs surveys. Before a decision on whether or not to change the make allowances used in establishing Class III and Class IV prices, the Department would like to include in the analysis data on plant manufacturing costs currently being compiled by Cornell University or any other pertinent data or information that would be publicly available. The data being collected by Cornell University represents a cross-section of the entire dairy industry—large, medium and small plants from various geographical regions. Because of the significance of make allowance factors in Class III and Class IV pricing formulas on the dairy industry, the Department wants to be certain that the best possible data is available in making a decision concerning any possible changes. Accordingly, the Department is reopening the hearing to take additional evidence.

The Department also is soliciting additional proposals that seek possible changes to other components of the Class III and Class IV price formulas. The Department recognizes the need to ensure that these pricing formulas are reflective of actual marketing conditions. Consequently, all interested parties are invited to submit proposals that address all components of Class III and IV pricing formulas. Proposals should be submitted by September 30, 2006.

The Department will issue a separate notice announcing the date, location and scope of the reconvened hearing.

Prior documents in this proceeding:

Notice of Hearing: Issued December 30, 2005; published January 5, 2006 (71 FR 545).

List of Subjects in 7 CFR Parts 1000, 1001, 1005, 1006, 1007, 1030, 1032, 1033, 1124, 1126, and 1131.

Milk marketing orders.

The authority citation for 7 CFR parts 1000, 1001, 1005, 1006, 1007, 1030, 1032, 1033, 1124, 1126, and 1131 continues to read as follows:

Authority: 7 U.S.C. 601-674.

Dated: June 23, 2006.
Lloyd C. Day,
Administrator, Agricultural Marketing Service.

[FR Doc. 06-5763 Filed 6-27-06; 8:45 am]

BILLING CODE 3410-02-P